DEPARTMENT OF COMMERCE

International Trade Administration

[A-570-872]

Notice of Postponement of Final Antidumping Duty Determination: Certain Cold-Rolled Carbon Steel Flat Products From the People's Republic of China

AGENCY: Import Administration, International Trade Administration, Department of Commerce.

ACTION: Notice of Postponement of Final Antidumping Duty Determination of Certain Cold-Rolled Carbon Steel Flat Products from the People's Republic of China.

SUMMARY: The Department of Commerce is postponing the final determination in the less-than-fair-value investigation of certain cold-rolled carbon steel flat products from the People's Republic of China (“PRC”). Suspension of liquidation will be extended accordingly.

EFFECTIVE DATE: June 20, 2002.

FOR FURTHER INFORMATION CONTACT: Carrie Blozy at 202-482-0165 or James C. Doyle at 202-482-0159, Import Administration, International Trade Administration, U.S. Department of Commerce, 1401 Constitution Avenue, N.W., Washington, DC 20230.

SUPPLEMENTARY INFORMATION:

The Applicable Statute

Unless otherwise indicated, all citations to the Tariff Act of 1930, as amended (“Act”), are references to the provisions effective January 1, 1995, the effective date of the amendments made to the Act by the Uruguay Round Agreements Act. In addition, unless otherwise indicated, all citations to the Department's regulations are to the regulations codified at 19 C.F.R. Part 351 (2001).

Background

On May 9, 2002, the Department of Commerce (“Department”) published the notice of preliminary determination of sales at less than fair value for certain cold-rolled carbon steel flat products from the PRC. See Notice of Preliminary Determination of Sales at Less Than Fair Value: Certain Cold-Rolled Carbon Steel Flat Products From the People's Republic of China, 67 FR 31235 (May 9, 2002). The final determination of this investigation is currently due no later than July 10, 2002. Pursuant to section 735(a)(2) of the Act, on May 30, 2002, the Pangang Economic and Trading Group Corporation (“Pangang”) requested that the Department postpone its final determination in the investigation until 135 days after the date of the publication of the preliminary determination in the Federal Register. In addition, in accordance with 19 C.F.R. 351.210(e)(2) Pangang requested that the Department extend the application of the provisional measures prescribed under section 733(d) of the Act to not more than six months.

Postponement of Final Determination and Extension of Provisional Measures

Section 735(a)(2)(A) of the Act provides that a final determination may be postponed until not later than 135 days after the publication of the preliminary determination if, in the event of an affirmative determination, a request for such postponement is made by exporters which account for a significant proportion of exports of the subject merchandise. The Department's regulations, at 19 CFR 351.210(e)(2), require that requests by respondents for postponement of a final determination be accompanied by a request for extension of provisional measures from a four-month period to not more than six months. In accordance with 19 C.F.R. 351.210(b), because (1) our preliminary determination is affirmative, (2) the requesting exporter accounts for a significant proportion of exports of the subject merchandise (see June 13, 2002 Memorandum to the File from James Doyle, Program Manager, re: Antidumping Duty Investigation of Cold-Rolled Carbon Steel Flat Products from the People's Republic of China: Request for a Postponement of the Final Determination), and (3) no compelling reasons for denial exist, we are granting Pangang's request and are fully extending the due date for the final results by 60 days, until no later than September 23, 2002. Suspension of liquidation will be extended accordingly.

Dated: June 14, 2002.
Faryar Shirzad,
Assistant Secretary for Import Administration.

[FR Doc. 02-15593 Filed 6-19-02; 8:45 am]

BILLING CODE 3510-DS-S